DEPARTMENT OF THE INTERIOR

Bureau of Land Management

[16X.LLWO350000.L14400000.PN0000]

Renewal of Approved Information Collection; OMB Control No. 1004-0009

AGENCY: Bureau of Land Management, Interior.

ACTION: 60-Day notice and request for comments.

SUMMARY: In compliance with the Paperwork Reduction Act, the Bureau of Land Management (BLM) invites public comments on, and plans to request approval to continue, the collection of information from individuals, private entities, and State or local governments seeking leases, permits, and easements for the use, occupancy, or development of public lands administered by the BLM. The Office of Management and Budget (OMB) has assigned control number 1004-0009 to this information collection.

DATES: Please submit comments on the proposed information collection by November 21, 2016.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0009” regardless of the form of your comments.

FOR FURTHER INFORMATION CONTACT: Jeff Cartwright, at (202) 912-7336. Persons who use a telecommunication device for the deaf may call the Federal Information Relay Service at 1-800-877-8339, to leave a message for Mr. Cartwright.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment — including your personal identifying information — may be made publicly available at any time. While you can ask us in your comment to withhold your personal identifying information from public review, we cannot guarantee that we will be able to do so.

The following information pertains to this request:

Title: Land Use Application and Permit (43 CFR part 2920)

OMB Control Number: 1004-0009

Summary: Section 302 the Federal Land Policy and Management Act of 1976 (FLPMA) (43 U.S.C. 1732) and regulations at 43 CFR part 2920 authorize the issuance of leases, permits, and easements for use, occupancy, or development of public lands administered by the BLM. A variety of land uses are permissible. The burdens to respondents also can vary.

Frequency of Collection: On occasion.

Forms: Form 2920-1, Land Use Application and Permit.

Description of Respondents: Individuals, private entities, and State or local governments seeking leases, permits, and easements for the use, occupancy, or development of public lands.

Estimated Annual Responses: 407.

Estimated Annual Burden Hours: 1,597.

Estimated Annual Non-Hour Costs: $131,760.

The estimated burdens are itemized in the following table:

Type of response | Number of responses | Hours per response | Annual hour burden (column B × column C)
A | B | C | D
Land Use Application and Permit, Individuals 43 CFR part 2920 Form 2920-1 | 66 | 1 | 66
Land Use Application and Permit, State and Local Governments 43 CFR part 2920 Form 2920-1 | 45 | 1 | 45
Land Use Application and Permit, Private Sector/Typical 43 CFR part 2920 Form 2920-1 | 286 | 1 | 286
Land Use Application and Permit, Private Sector/Complex 43 CFR part 2920 Form 2920-1 | 10 | 120 | 1,200
Totals | 407 |  | 1,597

Jean Sonneman,
Information Collection Clearance Officer, Bureau of Land Management.

[FR Doc. 2016-22806 Filed 9-21-16; 8:45 am]

BILLING CODE 4310-84-P